DEPARTMENT OF TRANSPORTATION

Federal Highway Administration

Environmental Impact Statement; Buncombe County, NC

AGENCY: Federal Highway Administration (FHWA), DOT.

ACTION: Notice of Intent.

SUMMARY: The FHWA is issuing this notice to advise the public that an environmental impact statement will be prepared for the proposed extension of I-26 from I-40 to US 19-23-70, including widening I-240 from the I-26/I-40/I-240 interchange to US 19-23-74 (Patton Avenue), and construction on new location from US 19-23-74 (Patton Avenue) across the French Broad River to US 19-23-70 in Buncombe County, North Carolina.

FOR FURTHER INFORMATION CONTACT: Clarence W. Coleman, P.E., Operations Engineer, Federal Highway Administration, 310 New Bern Avenue, Suite 410, Raleigh, North Carolina 27601-1418, Telephone: (919) 856-4350, Extension 133.

SUPPLEMENTARY INFORMATION: The FHWA, in cooperation with the North Carolina Department of Transportation (NCDOT), will prepare an environmental impact statement (EIS) on a proposal for extending I-26, partly on new location, from I-40 to US 19-23-70 including the I-26/I-40/I-240 interchange. The project is commonly referred to as the I-26 Connector and is intended to provide a link between existing I-26 and US 19-23-70 north of Asheville, completing a gap in the I-26 corridor through Asheville. The project includes upgrading the I-26/I-40/I-240 interchange and improving I-240 (including the interchanges) north to the I-240/US 19-23-74A/Patton Avenue interchange west of the French Broad River. The project also includes construction of a multilane freeway segment on new location from the I-240/US 19-23-74A/Patton Avenue interchange across the French Broad River, merging into US 19-23-70 south of the existing US 19-23-70 interchange with SR 1781 (Broadway). Improvements to the corridor are considered necessary to provide for the existing and projected traffic demand and improve connectivity between I-26 south of Asheville and US 19-23-70 north of Asheville. In addition, upgrades are needed on existing interstates within the study area to meet current design standards.

Opportunities have been provided for involvement with the public in defining the project purpose and need and determining the range of alternatives to be considered for the project. Further opportunities for the public to comment on the environmental review process will be provided throughout the remainder of the project development process. From 1989 to 1995, the I-26 Connector was studied as part of the Asheville Urban Area Corridor Preservation Pilot Project in order to develop the Asheville Urban Area Thoroughfare Plan, a long-range regional transportation plan. Extensive public involvement was incorporated to identify overall transportation goals, specific projects in the Asheville area that would fulfill those goals (which identified the I-26 Connector as one of those projects) and potential corridors for the I-26 Connector. NCDOT published a final Phase I Environmental Analysis for the Asheville Urban Area (Phase I Study) in April 1995.

Prior to the initiation of environmental studies in preparation of an Environmental Impact Statement (EIS), a scoping letter soliciting comments on the proposed project was sent in 1996 to the local, state, and federal agencies, by NCDOT. No further scoping actions are planned.

In 1997, the United States Army Corps of Engineer (USACE), FHWA, and NCDOT signed an Interagency Agreement integrating Section 404 and the National Environmental Policy Act (NEPA) of 1969, known as the Section 404/NEPA Merger Process. The agreement requires the establishment of a project team at the beginning of each transportation project and outlines the coordination process with a series of Concurrence Points in order to promote cooperation and coordination during the study process and to ensure compatibility with local, state and federal planning projects and policies.

In addition to the project merger team providing guidance and input, involvement with the public continued with a Project Educational Forum and a separate Project Design Forum in 2000. In the summer of 2004, public informational meetings were held to receive public comments on the functional alternatives presented. The engineering designs for the project alternatives were then presented at Community Informational Workshops in October 2006. Upon completion of the draft EIS, a public hearing will be held, with public notice of the time and place of the hearing. The draft EIS will be available for public and agency review and comment prior to the public hearing.

To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: July 19, 2007.
Clarence W. Coleman,
P.E., Operations Engineer, Raleigh, North Carolina.

[FR Doc. E7-14353 Filed 7-24-07; 8:45 am]

BILLING CODE 4910-22-P